POSTAL SERVICE

39 CFR Parts 20 and 211

International Mail Manual; Incorporation by Reference

AGENCY: Postal Service.

ACTION: Final rule.

SUMMARY: The Postal Service announces the issuance of Issue 30 of the International Mail Manual (IMM), and its incorporation by reference in the Code of Federal Regulations.

EFFECTIVE DATE: This final rule is effective on October 5, 2004. The incorporation by reference of Issue 30 of the IMM is approved by the Director of the Federal Register as of October 5, 2004.

FOR FURTHER INFORMATION CONTACT: Obataiye B. Akinwole, (202) 268-7262.

SUPPLEMENTARY INFORMATION: Issue 30 of the International Mail Manual was issued on August 1, 2004. It replaced the previous issue of the IMM, and contained all IMM revisions from June 13, 2003, through July 22, 2004.

This new Issue of the IMM continues to serve the objectives of the Postal Service's Transformation Plan of April 2000, to enable the Postal Service to fulfill its long-standing mission of providing affordable, universal mail service. The Plan's key strategies include improving operational efficiency, supporting growth through added value to customers, and enhancing the Postal Service's performance-based culture.

In addition, Issue 30 sets forth specific changes affecting international postal services, such as the adoption of new customs forms for international mail and military mail, and the network change that removed Washington Dulles International Airport as a U.S. International Exchange Office. The new Issue also corrects various printing and format errors and omissions in the previous Issue.

The International Mail Manual is available to the public on a subscription basis only from: New Orders, Superintendent of Documents, P.O. Box 371954, Pittsburgh, PA 15250-7954. The subscription price for one issue is currently $36 to addresses in the United States, and $50.40 to all foreign addresses. The IMM is also published and available to all users on the Internet at http://pe.usps.gov.

List of Subjects

39 CFR Part 20

Foreign relations, Incorporation by reference.

39 CFR Part 211

Administrative practice and procedure.

In view of the considerations discussed above, the Postal Service hereby amends 39 CFR chapter I as follows:

PART 211—APPLICATION OF REGULATIONS

1. The authority citation for part 211 continues to read as follows:

Authority: 39 U.S.C. 201, 202, 401(2), 402, 403, 404, 410, 1001, 1005, 1209; Pub. L. 91-375, Secs. 3-5, 84 Stat. 773-75.

§ 211.2 [Amended]

2. In § 211.2(a)(2), remove the words “Publication 42 (International Mail)” and add “International Mail Manual” in their place.

3. Part 20 is revised to read as follows:

PART 20—INTERNATIONAL POSTAL SERVICE

Sec.
20.1 International Mail Manual; incorporation by reference.
20.2 Effective date of the International Mail Manual.
20.3 Availability of the International Mail Manual.
20.4 Amendments to the International Mail Manual.
20.5 [Reserved]

Authority: 5 U.S.C. 552(a); 39 U.S.C. 401, 404, 407, 408.

§ 20.1 International Mail Manual; incorporation by reference.

(a) Section 552(a) of Title 5, U.S.C., relating to the public information requirements of the Administrative Procedure Act, provides in pertinent part that “* * * matter reasonably available to the class of persons affected thereby is deemed published in the Federal Register when incorporated by reference therein with the approval of the Director of the Federal Register.” In conformity with that provision, with 39 U.S.C. 410(b)(1), and as provided in this part, the U.S. Postal Service hereby incorporates by reference its International Mail Manual (IMM), Issue 30, dated August, 2004. The Director of the Federal Register approves this incorporation by reference in accordance with 5 U.S.C. 552(a) and 1 CFR part 51.

(b) The current Issue of the IMM is incorporated by reference in paragraph (a) of this section. Successive Issues of the IMM are listed in the following table:

International Mail Manual | Date of issuance
Issue 1 | November 13, 1981.
Issue 2 | March 1, 1983.
Issue 3 | July 4, 1985.
Issue 4 | September 18, 1986.
Issue 5 | April 21, 1988.
Issue 6 | October 5, 1988.
Issue 7 | July 20, 1989.
Issue 8 | June 28, 1990.
Issue 9 | February 3, 1991.
Issue 10 | June 25, 1992.
Issue 11 | December 24, 1992.
Issue 12 | July 8, 1993.
Issue 13 | February 3, 1994.
Issue 14 | August 4, 1994.
Issue 15 | July 9, 1995.
Issue 16 | January 4, 1996.
Issue 17 | September 12, 1996.
Issue 18 | June 9, 1997.
Issue 19 | October 9, 1997.
Issue 20 | July 2, 1998.
Issue 21 | May 3, 1999.
Issue 22 | January 1, 2000.
Issue 23 | July 1, 2000.
Issue 24 | January 1, 2001.
Issue 25 | July 1, 2001.
Issue 26 | January 1, 2002.
Issue 27 | June 30, 2002.
Issue 28 | January 1, 2003.
Issue 29 | July 1, 2003.
Issue 30 | August 1, 2004.

§ 20.2 Effective date of the International Mail Manual.

The provisions of the International Mail Manual Issue 30, effective August 1, 2004, are applicable with respect to the international mail services of the Postal Service.

§ 20.3 Availability of the International Mail Manual.

Copies of the International Mail Manual may be purchased from the Superintendent of Documents, U.S. Government Printing Office, Washington, DC 20402-9371. The IMM is available for examination on the Internet at http://pe.usps.gov. Copies are available for public inspection during regular business hours at area and district offices of the Postal Service and at all post offices, classified stations, and classified branches. You may also inspect a copy at the U.S. Postal Service Library, 475 L'Enfant Plaza West SW., Washington, DC 20260-1641, or at the National Archives and Records Administration (NARA). For information on the availability of this material at NARA, call 202-741-6030, or go to: http://www.archives.gov/federal_register/code_of_federal_regulations/ibr_locations.html.

§ 20.4 Amendments to the International Mail Manual.

New issues of the International Mail Manual will be incorporated by reference into this part and will be available at http://pe.usps.gov. The text of amendments to the International Mail Manual will be published in the Federal Register and will be available in the Postal Bulletin, copies of which may be accessed at http://www.usps.com/cpim/ftp/bulletin/pb.htm.

§ 20.5 [Reserved]

Stanley F. Mires,
Chief Counsel, Legislative.

[FR Doc. 04-22233 Filed 10-4-04; 8:45 am]

BILLING CODE 7710-12-P